CHEMICAL SAFETY AND HAZARD INVESTIGATION BOARD

Senior Executive Service; Performance Review Board

AGENCY: U.S. Chemical Safety and Hazard Investigation Board (CSB).

ACTION: Notice of appointment of members to the Senior Executive Service Performance Review Board.

SUMMARY: This notice announces the membership of the Chemical Safety and Hazard Investigation Review Board (CSB) Senior Executive Service (SES) Performance Review Board (PRB).

DATES: These appointments are effective on the date of publication of this notice to March 2024.

FOR FURTHER INFORMATION CONTACT: Selena Simmons-Ferguson, HR Director, CSB, 1750 Pennsylvania Ave. NW, Suite 910, (202) 510-3054.

SUPPLEMENTARY INFORMATION: 5 U.S.C. 4314(c)(1) requires each agency to establish, in accordance with regulations with regulations prescribed by the Office of Personnel Management, a performance review board (PRB). The PRB reviews the initial performance ratings of members of the Senior Executive Service (SES) and makes recommendations for final annual performance ratings for senior executives. In addition, the PRB will review and recommend executive performance bonuses and pay increases.

Publication of the PRB membership is required by 5 U.S.C. 4314(c)(4). Because the CSB is a small independent Federal agency, in addition to a member from the CSB, the agency is drawing additional career appointed SES members for its PRB from other Federal agencies. The members of the CSB's PRB have committed to serving a one-year term.

The PRB shall consist of at least three members, and more than half of the members shall consist of career appointees when reviewing the performance of a career appointed SES. The following persons comprise the CSB Senior Executive Service PRB:

Dr. Sylvia Johnson, Board Member, U.S. Chemical Safety and Hazard Investigation Board; Rachel A. Wallace, Deputy General Counsel and Chief Operating Officer, Office of Science and Technology Policy, Executive Office of the President; and Jerold Gidner, Director, Bureau of Trust Funds Administration, U.S. Department of Interior.

Dated: February 22, 2023.
Tamara Qureshi,
Assistant General Counsel, Chemical Safety and Hazard Investigation Board.

[FR Doc. 2023-04034 Filed 2-27-23; 8:45 am]

BILLING CODE 6350-01-P